DEPARTMENT OF HEALTH AND HUMAN SERVICES

National Institutes of Health

Office of the Director; Notice of Meeting

Pursuant to Pub. Law 92-463, notice is hereby given of a meeting of the Advisory Committee to the Director, NIH.

The entire meeting will be open to the public as indicated below,with attendance limited to space available. Individuals who plan to attend and need special assistance, such as sign language interpretation or other reasonable accommodations, should inform the Contact Person listed below in advance of the meeting.

Name of Committee: Advisory Committee to the Director, NIH.

Date: December 7, 2000.

Time: 8:30 a.m.-4:00 p.m.

Agenda: The topics proposed for discussion include but are not limited to: (1) sharing biomedical research resources; (2) a status of guidelines on research using stem cells; (3) implementation of recommendation of ACD on the Office of Medical Applications of Research; and (4) a report of the Working Group on Extramural Construction.

Place: National Institutes of Health, 31 Center Drive, Building 31, Conference Room 10, Bethesda, Maryland 20892.

Contact: Ms. Janice C. Ramsden, Special Assistant to the Principal Deputy Director, NIH, National Institutes of Health, Building 1, Room 333, Bethesda, Maryland 20892, jr52h@nih.gov, Telephone: (301) 496-0959.

Dated: November 16, 2000.
LaVerne Stringfield,
Director, Office of Federal Advisory Committee Policy.

[FR Doc. 00-30164 Filed 11-27-00; 8:45 am]

BILLING CODE 4140-01-M